DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Drug and Alcohol Services Information System (DASIS)—(OMB No. 0930-0106)—Revision

The DASIS consists of three related data systems: The Inventory of Substance Abuse Treatment Services (I-SATS ); the National Survey of Substance Abuse Treatment Services (N-SSATS), and the Treatment Episode Data Set (TEDS). The I-SATS includes all substance abuse treatment facilities known to SAMHSA. The N-SSATS is an annual survey of all substance abuse treatment facilities listed in the I-SATS. The TEDS is a compilation of client-level admission data and discharge data submitted by States on clients treated in facilities that receive State funds. Together, the three DASIS components provide information on the location, scope and characteristics of all known drug and alcohol treatment facilities in the United States, the number of persons in treatment, and the characteristics of clients receiving services at publicly-funded facilities. This information is needed to assess the nature and extent of these resources, to identify gaps in services, to provide a database for treatment referrals, and to assess demographic and substance-related trends in treatment. In addition, several National Outcome Measures (NOMS) data elements are collected in TEDS to assess the performance of the Substance Abuse Prevention and Treatment (SAPT) Block Grant.

The request for OMB approval will include a request to conduct the 2010 through 2012 N-SSATS and Mini-N-SSATS. The Mini-N-SSATS is a procedure for collecting services data from newly identified facilities between main cycles of the survey and will be used to improve the listing of treatment facilities in the on-line treatment facility Locator. The N-SSATS questionnaire is expected to remain unchanged except for minor modifications to wording. If there is a need for substantial revision to the N-SSATS questionnaire during the period of this clearance, a supplemental request for clearance will be submitted.

The OMB request will also include the collection of TEDS data, including the addition of two new NOMS data elements to the TEDS client-level record. To the extent that states already collect the elements from their treatment providers, the following elements will be included in the TEDS data collection: Frequency of attendance at self-help programs in past 30 days at admission; and frequency of attendance at self-help programs in past 30 days at discharge. No significant changes are expected in the other DASIS activities.

Estimated annual burden for the DASIS activities is shown below:

Type of respondent and activity | Number of respondents | Responses per respondent | Hours per response | Total burden hours
STATES
TEDS Admission Data | 52 | 4 | 6 | 1,248
TEDS Discharge Data | 52 | 4 | 8 | 1,664
TEDS Discharge Crosswalks | 5 | 1 | 10 | 50
I-SATS Update ¹ | 56 | 70 | .08 | 314
State Subtotal | 56 |  |  | 3,276
FACILITIES
I-SATS Update ² | 200 | 1 | .08 | 16
N-SSATS questionnaire | 17,000 | 1 | .67 | 11,390
Augmentation screener | 1,000 | 1 | .08 | 80
Mini-N-SSATS | 2,000 | 1 | .42 | 840
Facility Subtotal | 20,200 |  |  | 12,326
TOTAL | 20,256 |  |  | 15,602
¹ States forward to SAMHSA information on newly licensed/approved facilities and on changes in facility name, address, status, etc. This is submitted electronically by nearly all States.
² Facilities forward to SAMHSA information on new facilities and on changes to existing facilities. This is submitted by e-mail by nearly all facilities.

Send comments to Summer King, SAMHSA Reports Clearance Officer, Room 7-1044, One Choke Cherry Road, Rockville, MD 20857 AND e-mail her a copy at summer.king@samhsa.hhs.gov. Written comments should be received within 60 days of this notice.

Dated: May 14, 2009.
Elaine Parry,
Director, Office of Program Services.

[FR Doc. E9-12122 Filed 5-22-09; 8:45 am]

BILLING CODE 4162-20-P